DEPARTMENT OF HEALTH AND HUMAN SERVICES

Administration for Children and Families

Proposed Information Collection Activity: Comment Request

Title: Innovative Strategies for Increasing Self-Sufficiency: Follow-Up Data Collection.

OMB No.: 0970-0397.

Description: The Administration for Children and Families (ACF), U.S. Department of Health and Human Services (HHS), is proposing a data collection activity as part of the Innovative Strategies for Increasing Self-Sufficiency (ISIS) demonstration and evaluation. The ISIS project will test a range of promising career pathways strategies to promote education, employment, and self-sufficiency. The major goals of the ISIS project include increasing the empirical knowledge about the effectiveness of a variety of programs for low-income individuals and families to achieve educational credentials, attain employment and advance to positions that enable self-sufficiency, as well as producing useful findings for both policymakers and program administrators.

This proposed information collection activity focuses on collecting follow-up data elements approximately one year after program enrollment. (Baseline data elements were previously collected at the time of program enrollment. A baseline information form captured basic identification, demographic, and contact information from program participants; a self-administered questionnaire captured additional information about participants related to the project goals; and baseline implementation data collection interviews collected information from knowledgeable informants about the service context for each evaluation site using a baseline implementation guide. These instruments were previously approved under OMB No. 0970-0397).

The purpose of this information collection effort is to follow up with study participants, document the experiences of program participants, examine differences in service receipt and educational experiences between program and control group members, describe the intervention as it was implemented in each site and assess the extent to which it was implemented as intended, and assess the implications for intervention scalability and sustainability.

Specifically, this data will be collected using the following instruments: (a) A follow-up survey which will be administered to all study participants approximately one year following enrollment in the study; (b) tracking letters which will be sent every four months to all study participants requesting an update of their contact information; (c) a modification to the Baseline Information Form requesting some basic information about all of the study participant's children (if applicable); (d) interview guides for the in-person visits to the intervention sites to structure discussions with program leadership/managers, instructional staff, case managers/advisors, partners and employers; (e) a brief survey for instructional staff; (f) a brief survey for case managers/advisors; and (g) in-depth interviews with a sample of study participants.

Respondents: Individuals enrolled in the ISIS demonstration programs, control group members, ISIS program/partner staff (including program leadership, case managers and instructional staff), and other local informants.

Annual Burden Estimates
Instrument | Annual number of respondents | Number of responses per respondent | Average burden hours per response | Total annual burden hours
12 Month Follow-up Survey | 3,600 | 1 | 0.833 | 2,999
Tracking Letters | 10,800 | 3 | 0.083 | 2,689
Baseline Information Form (Modification) | 3,500 | 1 | 0.05 | 175
Program Leadership/Managers Interview Guide | 13 | 1 | 2 | 26
Instructional Staff Interview Guide | 21 | 1 | 2 | 42
Case Managers/Advisors Interview Guide | 16 | 1 | 2 | 32
Partners Interview Guide | 16 | 1 | 2 | 32
Employers Interview Guide | 19 | 1 | 1 | 19
Instructional Staff Survey | 26 | 1 | 0.5 | 13
Case Managers/Advisors Survey | 24 | 1 | 0.5 | 12
Study Participant Interview Guide | 80 | 1 | 1 | 80

Estimated Total Annual Burden Hours: 6,119.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer, Administration for Children and Families.

[FR Doc. 2012-17641 Filed 7-19-12; 8:45 am]

BILLING CODE 4184-09-P